DEPARTMENT OF COMMERCE

National Oceanic and Atmospheric Administration

50 CFR Part 223

[I.D. 081699C, 092199A, 092799G]

Endangered and Threatened Species; Notice of an Additional Public Hearing for Proposed Rules Governing Take of West Coast Chinook, Chum, Coho and Sockeye Salmon and Steelhead Trout

AGENCY: National Marine Fisheries Service (NMFS), National Oceanic and Atmospheric Administration (NOAA), Commerce.

ACTION: Proposed rule; notification of public hearing.

SUMMARY: NMFS is announcing an additional public hearing for the following: Proposed Rule Governing Take of Seven Threatened Evolutionarily Significant Units (ESUs) of West Coast Salmonids; Proposed Rule Governing Take of Threatened Snake River, Central California Coast, South/Central California Coast, Lower Columbia River, Central Valley California, Middle Columbia River, and Upper Willamette River Evolutionarily Significant Units (ESUs) of West Coast Steelhead; and Limitation on Section 9 Protections Applicable to Salmon Listed as Threatened under the Endangered Species Act (ESA), for Actions Under Tribal Resource Management Plans. NMFS is holding this additional public hearing for all three rules to facilitate public participation in this regulatory process.

DATES: The meeting date is February 22, 2000, 6:00 p.m.-9:00 p.m.

ADDRESSES: The meeting will be held at Whitman College, Cordiner Hall, 345 Boyer Avenue, Walla Walla, WA.

FOR FURTHER INFORMATION CONTACT: Garth Griffin, (503) 231-2005; Craig Wingert, (562) 980-4021; or Chris Mobley, (301) 713-1401. Copies of the Federal Register documents cited herein and additional salmon-related materials are available via the Internet at www.nwr.noaa.gov.

SUPPLEMENTARY INFORMATION:

Background

Under section 4(d) of the Endangered Species Act (ESA), the Secretary of Commerce (Secretary) is required to adopt such regulations as he deems necessary and advisable for the conservation of species listed as threatened. On December 30, 1999 (64 FR 73479), NMFS issued a proposed rule under section 4(d) of the ESA which contains the regulations that it believes, are necessary and advisable to conserve threatened Snake River, Central California Coast, South/Central California Coast, Lower Columbia River, Central Valley California, Middle Columbia River, and Upper Willamette River ESUs of West Coast Steelhead. The proposed rule applies ESA section 9(a)(1) prohibitions to the previously mentioned steelhead ESUs, but proposes not to apply the take prohibitions to 13 specific programs which limit impacts on listed steelhead to an extent that makes added protection through Federal regulation not necessary and advisable for the conservation of these ESUs (see 64 FR 73479).

On January 3, 2000 (65 FR 170), NMFS issued a proposed rule under section 4(d) of the ESA which was nearly identical to the December 30, 1999, proposal except that it applied to the following species of salmon: Oregon Coast Coho, Puget Sound, Lower Columbia and Upper Willamette Chinook, Hood Canal Summer-run and Columbia River Chum, and Ozette Lake Sockeye.

Also on January 3, 2000 (65 FR 108), NMFS issued a proposed rule under section 4(d) of the ESA that would not impose the section 9(a)(1) prohibitions on take when impacts on threatened salmonids result from implementation of a tribal resource management plan, where the Secretary has determined that implementing that Tribal Plan will not appreciably reduce the likelihood of survival and recovery for the listed species. This proposal applies to threatened salmonids that are currently subject to ESA section 9(a)(1) take prohibitions: Snake River spring/summer chinook salmon; Snake River fall chinook salmon; Central California Coast (CCC) coho salmon; and Southern Oregon/Northern California Coast (SONCC) coho salmon. This proposed limitation on take prohibitions would also be available for all other threatened salmonid ESUs whenever final ESA section 9(a) prohibitions are made applicable to those ESUs.

On February 14, 2000, NMFS published a Federal Register document under the Proposed Rules section which extended the public comment periods for all 3 proposed rules and announced additional public hearings in Washington and Idaho. Because these closely related rules had public comment periods that ended on different dates (February 22, 2000, for the steelhead proposal and March 3, 2000, for the other 2 proposals, respectively), NMFS extended the comment period for all three rules to March 6, 2000, to avoid confusion and to facilitate public participation.

NMFS has received a request for an additional public hearing to allow further opportunity for the public to participate in the exchange of information and opinion among interested parties and to provide oral and written testimony. NMFS finds that the request is reasonable and has scheduled the meeting accordingly (see DATES and ADDRESSES).

NMFS is soliciting specific information, comments, data, and/or recommendations on any aspect of the December 30, 1999, and January 3, 2000, proposals from all interested parties. This information is considered critical in helping NMFS make final determinations on the proposals. NMFS will consider all information, comments, and recommendations received during the comment period and at the public hearings before reaching a final decision.

Special Accommodations

These hearings are physically accessible to people with disabilities. Requests for sign language or other aids should be directed to Garth Griffin (see ADDRESSES) 7 days before the meeting date.

Dated: February 10, 2000.
Penelope D. Dalton,
Assistant Administrator for Fisheries, National Marine Fisheries Services.

[FR Doc. 00-3725 Filed 2-15-00; 8:45 am]

BILLING CODE 3510-22-F